DEPARTMENT OF TRANSPORTATION

Federal Aviation Administration

14 CFR Part 39

[Docket No. FAA-2005-21087; Directorate Identifier 2005-NM-019-AD]

RIN 2120-AA64

Airworthiness Directives; BAE Systems (Operations) Limited (Jetstream) Model 4101 Airplanes

AGENCY: Federal Aviation Administration (FAA), Department of Transportation (DOT).

ACTION: Notice of proposed rulemaking (NPRM).

SUMMARY: The FAA proposes to supersede an existing airworthiness directive (AD) that applies to all BAE Systems (Operations) Limited (Jetstream) Model 4101 airplanes. The existing AD requires operators to determine the number of flight cycles accumulated on each component of the main landing gear (MLG) and the nose landing gear (NLG), and to replace each component that reaches its life limit with a serviceable component. The existing AD also requires operators to revise the Airworthiness Limitations section (ALS) of the Instructions for Continued Airworthiness in the aircraft maintenance manual to reflect the new life limits. This proposed AD would require revising the ALS to incorporate extended and more restrictive life limits for structurally significant items. This proposed AD is prompted by engineering analysis of fleet operations which resulted in more restrictive life limits. We are proposing this AD to prevent failure of certain structurally significant items, including the MLG and the NLG, which could result in reduced structural integrity of the airplane.

DATES: We must receive comments on this proposed AD by June 1, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact British Aerospace Regional Aircraft American Support, 13850 Mclearen Road, Herndon, Virginia 20171.

You can examine the contents of this AD docket on the Internet at http://dms.dot.gov, or in person at the Docket Management Facility, U.S. Department of Transportation, 400 Seventh Street SW., room PL-401, on the plaza level of the Nassif Building, Washington, DC. This docket number is FAA-2005-21087; the directorate identifier for this docket is 2005-NM-019-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-21087; Directorate Identifier 2005-NM-019-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 16, 2004, we issued AD 2004-13-07, amendment 39-13689 (69 FR 38816, June 29, 2004), for all BAE Systems (Operations) Limited (Jetstream) Model 4101 airplanes. That AD currently requires operators to determine the number of flight cycles accumulated on each component of the main landing gear (MLG) and the nose landing gear (NLG), and to replace each component that reaches its life limit with a serviceable component. That AD also requires operators to revise the Airworthiness Limitations section (ALS) of the Instructions for Continued Airworthiness in the aircraft maintenance manual (AMM) to reflect the new life limits. That AD was prompted by analysis that establishing a life limit for each component of the landing gear units, and replacing the component when it reaches its life limit were necessary. We issued that AD to prevent failure of certain components of the MLG and the NLG, which could result in failure of either or both landing gears, and consequent damage to the airplane and injury to passengers or crewmembers.

Actions Since Existing AD Was Issued

Since we issued AD 2004-13-07, the Civil Aviation Authority (CAA), which is the airworthiness authority for the United Kingdom, issued British airworthiness directive G-2004-0005, dated February 3, 2005. The British airworthiness directive mandates incorporation of British Aerospace Jetstream Series 4100 AMM, Chapter 05-10-10, to Airworthiness Limitations—Description and Operation Section, Revision 23 (or later EASA approved revision). The revised section affects all BAE Systems (Operations) Limited (Jetstream) Model 4101 airplanes. That section provides mandatory replacement times and structural inspection intervals approved by EASA under Joint Aviation Requirements and the Federal Aviation Regulations (14 CFR 25.571).

Relevant Service Information

BAE Systems (Operations) Limited has issued Chapter 05-10-10, Revision 23, dated February 15, 2005, which is a revision to the British Aerospace Jetstream Series 4100 AMM. That chapter is confined to structurally significant items only and gives mandatory replacement times, structural inspection intervals, and related structural inspection procedures for the MLG and NLG.

The revision to Chapter 05-10-10 describes inspections and compliance times with extended and more restrictive life limits for structurally significant items for inspection and replacement actions. Accomplishment of those actions will preclude the onset of fatigue damage of certain structural elements of the airplane.

The CAA has approved Chapter 05-10-10, Revision 23, of the AMM to ensure the continued airworthiness of these airplanes in the United Kingdom.

FAA's Determination and Requirements of the Proposed AD

This airplane model is manufactured in the United Kingdom and is type certificated for operation in the United States under the provisions of § 21.29 of the Federal Aviation Regulations (14 CFR 21.29) and the applicable bilateral airworthiness agreement. Pursuant to this bilateral airworthiness agreement, the CAA has kept the FAA informed of the situation described above. We have examined the CAA's findings, evaluated all pertinent information, and determined that AD action is necessary for airplanes of this type design that are certificated for operation in the United States.

This proposed AD would supersede AD 2004-13-07. This proposed AD would retain the requirements of the existing AD. This proposed AD would also require revising the ALS of the Instructions for Continued Airworthiness in the AMM to incorporate extended and more restrictive life limits for structurally significant items.

Difference Between This Proposed AD and British Airworthiness Directive

The British airworthiness directive requires doing the AFM revision “from the effective date” of its airworthiness directive. This proposed AD, however, would require doing the AFM revision within a compliance time of 30 days. In developing an appropriate compliance time for this AD, we considered the degree of urgency associated with the subject unsafe condition and the time necessary to perform the AFM revision (1 hour). In light of these factors, we find that the compliance time in the proposed AD represents an appropriate interval of time for affected airplanes to continue to operate without compromising safety.

Change to Existing AD

This proposed AD would retain all requirements of AD 2004-13-07. Since AD 2004-13-07 was issued, the AD format has been revised, and certain paragraphs have been rearranged. As a result, the corresponding paragraph identifiers have changed in this proposed AD, as listed in the following table:

Revised Paragraph Identifiers
Requirement in AD 2004-13-07 | Corresponding requirement in this proposed AD
Paragraph (a) | Paragraph (f).
Paragraph (b) | Paragraph (g).
Paragraph (c) | Paragraph (h).
Paragraph (d) | Paragraph (i).
Paragraph (e) | Paragraph (j).
Paragraph (f) | Paragraph (k).

y

Costs of Compliance

This proposed AD would affect about 57 airplanes of U.S. registry.

The actions that are required by AD 2004-13-07, and retained in this proposed AD, would take approximately 1 work hour per airplane to accomplish the required determination of the number of flight cycles, and 1 work hour per airplane to accomplish the required revision of the aircraft maintenance manual. The average labor rate is $65 per work hour. Based on these figures, the estimated cost of the currently required actions is $130 per airplane.

The proposed new revision of the AMM would take about 1 work hour per airplane, at an average labor rate of $65 per work hour. Based on these figures, the estimated cost of the new revision of the AMM specified in this proposed AD for U.S. operators is $3,705, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13689 (69 FR 38816, June 29, 2004) and adding the following new airworthiness directive (AD):

BAE Systems (Operations) Limited (Formerly British Aerospace Regional Aircraft): Docket No. FAA-2005-21087; Directorate Identifier 2005-NM-019-AD.

Comments Due Date

(a) The Federal Aviation Administration must receive comments on this AD action by June 1, 2005.

Affected ADs

(b) This AD supersedes AD 2004-13-07, amendment 39-13689 (69 FR 38816, June 29, 2004).

Applicability

(c) This AD applies to all BAE Systems (Operations) Limited Jetstream Model 4101 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529.

Unsafe Condition

(d) This AD was prompted by engineering analysis of fleet operations which resulted in more restrictive life limits. We are issuing this AD to prevent failure of certain structurally significant items, including the main landing gear and the nose landing gear, which could result in reduced structural integrity of the airplane.

Compliance

(e) You are responsible for having the actions required by this AD performed within the compliance times specified, unless the actions have already been done.

Restatement of Requirements of AD 2004-13-07:

Determine Flight Cycles for Components

(f) Within 90 days after August 3, 2004 (the effective date of AD 2004-13-07): Determine the number of flight cycles accumulated on each landing gear component listed in Table 1 and Table 2 of the Accomplishment Instructions of BAE Systems (Operations) Limited Service Bulletin J41-32-078, dated April 12, 2002. If there are no records or incomplete records for any component, establish the number of flight cycles in accordance with the Accomplishment Instructions of BAE Systems (Operations) Limited Service Bulletin J41-05-001, Revision 2, dated March 15, 2002; or Revision 3, dated January 1, 2004.

Note 2: BAE Systems (Operations) Limited Service Bulletin J41-32-078 refers to BAE Systems (Operations) J41 Service Information Leaflet 32-15, Issue 1, dated February 15, 2002, as an additional source of service information for establishing the life limits of landing gear components and for tracking the accumulated life of each component.

Replace Components

(g) Except as provided by paragraph (h) of this AD, within 60 days after establishing the flight cycles per paragraph (f) of this AD: Replace any landing gear component that has reached the life limit determined by paragraph (f) of this AD, with a serviceable component per a method approved by either the Manager, International Branch, ANM-116, Transport Airplane Directorate, FAA; or the Civil Aviation Authority (CAA) (or its delegated agent). Doing the actions in chapter 32 of the applicable airplane maintenance manual (AMM) is one approved method. Thereafter, replace any component that reaches its life limit prior to the accumulation of the applicable number of flight cycles shown in Table 1 and Table 2 of the Accomplishment Instructions of BAE Systems (Operations) Limited Service Bulletin J41-32-078, dated April 12, 2002.

(h) Any component for which the total accumulated life cycles has not been established, or that has exceeded its life limit, but has not yet been replaced per paragraph (g) of this AD, must be replaced within 72 months after August 3, 2004, in accordance with BAE Systems (Operations) Limited Service Bulletin J41-32-078, dated April 12, 2002.

Revise Aircraft Maintenance Manual (AMM)

(i) Within 30 days after August 3, 2004: Revise the Airworthiness Limitations section of the Instructions for Continued Airworthiness of the Jetstream 4100 AMM to include the life limits of the components listed in Table 1 and Table 2 of the Accomplishment Instructions of BAE Systems (Operations) Limited Service Bulletin J41-32-078, dated April 12, 2002. This may be accomplished by inserting a copy of the service bulletin in the Airworthiness Limitations section (ALS) of the Instructions for Continued Airworthiness until such time as a revision is issued. Thereafter, except as provided in paragraph (m) and (l) of this AD, no alternative replacement times may be approved for any affected component. Once the AMM revision required by paragraph (l) of this AD is accomplished, the AMM revision required by this paragraph must be removed from the AMM.

Parts Installation

(j) As of August 3, 2004, no landing gear unit may be installed on any airplane unless the accumulated flight cycles of all components of that landing gear have been established per paragraph (f) of this AD, and any component that has exceeded its life limit has been replaced per paragraph (g) of this AD.

Actions Accomplished per Previous Issue of Service Bulletin

(k) Calculations of total accumulated flight cycles accomplished per BAE Systems (Operations) Limited Service Bulletin J41-05-001, Revision 1, dated April 10, 2001; or BAE Systems (Operations) Limited Service Bulletin J41-05-001, Revision 2, dated March 15, 2002; are considered acceptable for compliance with the corresponding action specified in this AD.

New Requirements of This AD

Revise Airplane Maintenance Manual (AMM)

(l) Within 30 days after the effective date of this AD: Revise the ALS of the Instructions for Continued Airworthiness of the Jetstream 4100 AMM to include the life limits of the components listed in British Aerospace Jetstream Series 4100 AMM, Chapter 05-10-10, to Airworthiness Limitations—Description and Operation Section, Revision 23, dated February 15, 2005. This may be accomplished by inserting a copy into the Airworthiness Limitations of the Instructions for Continued Airworthiness. Thereafter, except as provided in paragraph (m) of this AD, no alternative replacement times may be approved for any affected component. Once this AMM revision is included, the AMM revision required by paragraph (i) of this AD must be removed from the AMM.

Alternative Methods of Compliance (AMOCs)

(m) The Manager, International Branch, ANM-116, has the authority to approve AMOCs for this AD, if requested in accordance with the procedures found in 14 CFR 39.19.

Related Information

(n) British airworthiness directive G-2004-0005, dated February 3, 2005, also addresses the subject of this AD.

Issued in Renton, Washington, on April 21, 2005.
Ali Bahrami,
Manager, Transport Airplane Directorate, Aircraft Certification Service.

[FR Doc. 05-8656 Filed 4-29-05; 8:45 am]

BILLING CODE 4910-13-P